DEPARTMENT OF HEALTH AND HUMAN SERVICES

National Institutes of Health

Center for Scientific Review; Amended Notice of Meeting

Notice is hereby given of a change in the meeting of the Center for Scientific Review Special Emphasis Panel, November 03, 2016, 01:00 p.m. to November 03, 2016, 03:00 p.m., Hilton McLean Tysons Corner, 7920 Jones Branch Dr., McLean, VA, 22102 which was published in the Federal Register on October 06, 2016, 81 FR 69540-69541.

The meeting will be held on November 4, 2016 from 8:00 a.m. to 12:00 p.m. The meeting location remains the same. The meeting is closed to the public.

Dated: October 11, 2016.
Natasha M. Copeland,
Program Analyst, Office of Federal Advisory Committee Policy.

[FR Doc. 2016-24948 Filed 10-14-16; 8:45 am]

BILLING CODE 4140-01-P